DEPARTMENT OF THE TREASURY

Office of Thrift Supervision

[AC-53: OTS No. H-4756]

Minden Bancorp, Inc., Minden, LA; Approval of Conversion Application

Notice is hereby given that on November 9, 2010, the Office of Thrift Supervision approved the application of Minden Mutual Holding Company and MBL Bank, Minden, Louisiana, to convert to the stock form of organization. Copies of the application are available for inspection by appointment (phone number: 202-906-5922 or e-mail Public.Info@OTS.Treas.gov) at the Public Reading Room, 1700 G Street, NW., Washington, DC 20552, and the OTS Western Regional Office, 122 W. John Carpenter Freeway, Suite 600, Irving, Texas 75261-9027.

Dated: November 10, 2010.
By the Office of Thrift Supervision.
Sandra E. Evans,
Federal Register Liaison.

[FR Doc. 2010-28800 Filed 11-16-10; 8:45 am]

BILLING CODE 6720-01-M